ENVIRONMENTAL PROTECTION AGENCY

[EPA-HQ-OPP-2009-1017; FRL-9905-49]

Methiocarb, Lambda-Cyhalothrin, Permethrin and Prodiamine; Cancellation Order for Pesticide Registrations and Amendments To Terminate Certain Uses

AGENCY: Environmental Protection Agency (EPA).

ACTION: Notice.

SUMMARY: This notice announces EPA's order for the amendments to terminate uses, voluntarily requested by the registrants and accepted by the Agency, of products containing methiocarb, lambda-cyhalothrin and prodiamine, pursuant to the Federal Insecticide, Fungicide, and Rodenticide Act (FIFRA). This cancellation order follows a November 29, 2013 Federal Register Notice of Receipt of Requests from the registrants listed in Table 2 of Unit II. to voluntarily amend to terminate uses of these product registrations. These are not the last products containing these pesticides registered for use in the United States. In the November 29, 2013 notice, EPA indicated that it would issue an order implementing the amendments to terminate uses, unless the Agency received substantive comments within the 30 day comment period that would merit its further review of these requests, or unless the registrants withdrew their requests. The Agency did not receive any comments on the notice. Further, the registrants did not withdraw their requests. Accordingly, EPA hereby issues in this notice a cancellation order granting the requested amendments to terminate uses. Any distribution, sale, or use of the products subject to this cancellation order is permitted only in accordance with the terms of this order, including any existing stocks provisions. In addition, for pertinent information relating to the permethrin product name Farnam Purge Plus Insecticide as published in the November 29, 2013 notice, see Unit II. of this notice.

DATES: The amendments are effective March 21, 2014.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017 is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the amendments to delete uses, as requested by registrants, of products registered under FIFRA section 3. These registrations are listed in sequence by registration number in Table 1 of this unit. In addition, pesticide registration number 000270-00279 and its contents has been removed from the listing in Table 1. EPA inadvertently listed the permethrin product name Farnam Purge Plus Insecticide for pesticide registration number 000270-00279 in the Federal Register of November 29, 2013 (78 FR 71609) (FRL 9902-77). Therefore, this action excludes pesticide registration number 000270-00279 from cancellation at this time. EPA will reissue pesticide product number 000270-00279 for voluntary cancellation in a future Federal Register notice.

Table 1—Methiocarb, Lambda-Cyhalothrin and Prodiamine Product Registration Amendments to Delete Uses
EPA Registration number | Product name | Uses deleted
010163-00230 | Mesurol Technical Insecticide | Domestic outdoor and nonresidential turf uses.
066222-00089 | Prodiamine 65 WG Herbicide | Drainage ditch uses.
081927-00036 | Alligare Prodiamine 65 WG Herbicide | Weed Control on drainage ditches in CA and AZ.
081927-00049 | Alligare Prodiamine 4L | Weed Control on drainage ditches in CA and AZ.
088541-00001 | Willowood Lambda-Cyhalothrin Technical | Indoor and outdoor residential uses.

Table 2 of this unit includes the names and addresses of record for all registrants of the products in Table 1 of this unit, in sequence by EPA company number. This number corresponds to the first part of the EPA registration numbers of the products listed in Table 1.

Table 2—Registrants of Amended Products
EPA Company No. | Company name and address
010163 | Gowan Company, P.O. Box 5569, Yuma, AZ 85366.
66222 | Makhteshim Agan of North America, Inc., 3120 Highwoods Blvd., Suite 100, Raleigh, NC 27604.
81927 | Alligare, LLC, Agent: Pyxis Regulatory Consulting, Inc., 4110 136th St. NW., Gig Harbor, WA 98332.
88541 | Willowood Lambda Cyhalothrin, LLC, Agent: Wagner Regulatory Associates, P.O. Box 640, Hockessin, DE 19707-0640.

III. Summary of Public Comments Received and Agency Response to Comments

During the public comment period provided, EPA received no comments in response to the November 29, 2013 Federal Register notice announcing the Agency's receipt of the requests for voluntary amendments to delete uses of products listed in Table 1 of Unit II.

IV. Cancellation Order

Pursuant to FIFRA section 6(f), EPA hereby approves the requested amendments to terminate uses of methiocarb, lambda-cyhalothrin and prodiamine registrations identified in Table 1 of Unit II. Accordingly, the Agency hereby orders that the product registrations identified in Table 1 of Unit II. are amended to terminate the affected uses. The effective date of the amendments that are subject of this notice is March 21, 2014. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on November 29, 2013. The comment period closed on December 30, 2013.

VI. Provisions for Disposition of Existing Stocks

Existing stocks are those stocks of registered pesticide products which are currently in the United States and which were packaged, labeled, and released for shipment prior to the effective date of the action. The existing stocks provision for the products subject to this order is as follows.

Now that EPA has approved product labels reflecting the requested amendments to delete uses, registrants are permitted to sell or distribute products listed in Table 1 of Unit II. under the previously approved labeling until September 21, 2015, a period of 18 months after publication of the cancellation order in this Federal Register, unless other restrictions have been imposed. Thereafter, registrants will be prohibited from selling or distributing the products whose labels include the deleted uses identified in Table 1 of Unit II., except for export consistent with FIFRA section 17 or for proper disposal.

Persons other than the registrant may sell, distribute, or use existing stocks of products whose labels include the deleted uses until supplies are exhausted, provided that such sale, distribution, or use is consistent with the terms of the previously approved labeling on, or that accompanied, the deleted uses.

List of Subjects

Environmental protection, Pesticides and pests.

Dated: March 5, 2014.
Richard P. Keigwin, Jr.,
Director, Pesticide Re-Evaluation Division, Office of Pesticide Programs.

[FR Doc. 2014-05680 Filed 3-20-14; 8:45 am]

BILLING CODE 6560-50-P